DEPARTMENT OF AGRICULTURE

Food Safety and Inspection Service

[Docket No. FSIS-2008-0009]

Codex Alimentarius Commission: Meeting of the Codex Committee on Food Labeling

AGENCY: Office of the Under Secretary for Food Safety, USDA.

ACTION: Notice of public meeting and request for comments.

SUMMARY: The Office of the Under Secretary for Food Safety, U.S. Department of Agriculture, and the Food and Drug Administration (FDA), U.S. Department of Health and Human Services, are sponsoring a public meeting on March 31, 2008. The objective of the public meeting is to provide information and receive public comments on agenda items and draft United States positions that will be discussed at the 36th Session of the Codex Committee on Food Labeling (CCFL) of the Codex Alimentarius Commission (Codex), which will be held in Ottawa, Canada, on April 28 to May 2, 2008. In addition, a working group on the Implementation of the World Health Organization (WHO) Global Strategy on Diet, Physical Activity, and Health will meet on April 26, 2008. The Under Secretary for Food Safety and FDA recognize the importance of providing interested parties the opportunity to obtain background information on the 36th Session of the CCFL and to address items on the agenda.

DATES: The public meeting is scheduled for Monday, March 31, 2008, from 1 p.m. to 4 p.m.

ADDRESSES: The public meeting will be held in Room 107A, Jamie Whitten Federal Building, 1200 Independence Avenue, SW., Washington, DC 20250. Codex documents related to the 36th Session of the CCFL will be accessible via the World Wide Web at the following address: http://www.codexalimentarius.net/current.asp.

The U.S. Delegate to the CCFL, Dr. Barbara Schneeman, invites interested U.S. parties to submit their comments electronically to the following e-mail address: ccfl@fda.hhs.gov.

For Further Information about the 36th Session of the CCFL Contact: Dr. Michael Wehr, FDA, Center for Food Safety and Applied Nutrition, 5100 Paint Branch Parkway, College Park, MD 20740. Phone: (301) 436-1724, Fax: (301) 436-2618, e-mail: michael.wehr@fda.hhs.gov.

For Further Information about the Public Meeting Contact: Doreen Chen-Moulec, U.S. Codex Office, Food Safety and Inspection Service (FSIS), Room 4861, South Building, 1400 Independence Avenue, SW., Washington, DC 20250. Phone: (202) 205-7760, Fax: (202) 720-3157.

SUPPLEMENTARY INFORMATION:

Background

The Codex Alimentarius Commission (Codex) was established in 1963 by two United Nations organizations, the Food and Agriculture Organization (FAO) and the WHO. Through adoption of food standards, codes of practice, and other guidelines developed by its committees, and by promoting their adoption and implementation by governments, Codex seeks to protect the health of consumers and ensure that fair practices are used in trade.

The CCFL drafts provisions on labeling applicable to all foods; considers, amends if necessary, and endorses specific provisions on labeling of draft standards, codes of practice, and guidelines prepared by other Codex committees; studies specific labeling problems assigned to it by the Codex Alimentarius Commission; and studies problems associated with the advertisement of food with particular reference to claims and misleading descriptions. The CCFL is chaired by Canada.

Issues To Be Discussed at the Public Meeting

The following items on the agenda for the 36th Session of the CCFL will be discussed during the public meeting:

• Matters Referred to the CCFL from other Codex Bodies.

• Matters Referred by FAO and WHO: Implementation of the WHO Global Strategy on Diet, Physical Activity, and Health.

• Consideration of Labeling Provisions in Draft Codex Standards.

• Guidelines for the Production, Processing, Labeling and Marketing of Organically Produced Foods: Draft Revised Annex 2: Table 3, Draft Amendment: Addition of Ethylene, and Proposal for new work: Deletion of Rotenone from Annex 2.

• Labeling of Foods and Food Ingredients Obtained through Certain Techniques of Genetic Modification or Genetic Engineering: Definitions and Labeling Provisions.

• Draft Amendment to the General Standard for the Labeling of Prepackaged Foods: Quantitative Declaration of Ingredients.

• Draft Definition of Advertising in Relation to Nutrition and Health Claims.

• Discussion Paper on Modified Standardized Common Names

Each item listed above will be fully described in documents distributed, or to be distributed, by the Secretariat prior to the April 28-May 2, 2008, meeting in Ottawa, Canada. Members of the public may access these documents on the World Wide Web (see ADDRESSES).

Public Meeting

At the March 31, 2008, public meeting, draft U.S. positions on the agenda items will be described and discussed, and attendees will have the opportunity to pose questions and offer comments. Written comments may be sent electronically to the U.S. Delegate for the CCFL, Dr. Barbara Schneeman (see ADDRESSES). Written comments should state that they relate to activities of the 36th Session of the CCFL.

Additional Public Notification

Public awareness of all segments of rulemaking and policy development is important. Consequently, in an effort to ensure that minorities, women, and persons with disabilities are aware of this notice, FSIS will announce it online through the FSIS Web page located at: (http://www.fsis.usda.gov/regulations/2008_Notices_Index/. FSIS will also make copies of this Federal Register publication available through the FSIS Constituent Update, which is used to provide information regarding FSIS policies, procedures, regulations, Federal Register notices, FSIS public meetings, and other types of information that could affect or would be of interest to constituents and stakeholders. The Update is communicated via Listserv, a free electronic mail subscription service for industry, trade groups, consumer interest groups, health professionals, and other individuals who have asked to be included. The Update is also available on the FSIS Web page. Through the Listserv and Web page, FSIS is able to provide information to a much broader and more diverse audience. In addition, FSIS offers an e-mail subscription service which provides automatic and customized access to selected food safety news and information. This service is available at: http://www.fsis.usda.gov/news_and_events/email_subscription/. Options range from recalls to export information to regulations, directives and notices. Customers can add or delete subscriptions themselves, and they have the option to password protect their accounts.

Done at Washington, DC, on: March 24, 2008.
Karen L. Hulebak,
Acting U.S. Manager for Codex Alimentarius.

[FR Doc. E8-6243 Filed 3-26-08; 8:45 am]

BILLING CODE 3410-DM-P